Proclamation 9128 of May 16, 2014

World Trade Week, 2014

By the President of the United States of America

A Proclamation

Commercial ties build partnerships between nations and spur growth across the world. Here in America, trade bolsters our small businesses, which make up 98 percent of our exporters and create nearly two out of every three new jobs. During World Trade Week, we celebrate these benefits, and we redouble our efforts to promote trade while protecting workers, safeguarding the environment, and opening markets to new goods stamped, “Made in the USA.”

My Administration is dedicated to supporting high-quality American jobs through exports. In 2010, I launched the National Export Initiative (NEI), and since then our determined focus on exports has helped more American small and medium-sized businesses and farmers create jobs by selling their products abroad. We are now selling more American goods and services overseas than at any time in our history. Last year alone, our exports supported 11.3 million American jobs.

Earlier this month, my Administration renewed its commitment to creating American jobs by launching a new phase of the National Export Initiative, NEI/NEXT. This new phase will build on the NEI's success by helping companies find export opportunities, gain access to financing, and move their goods across borders. NEI/NEXT will also open markets around the world while ensuring a level playing field for American companies. My Administration is also helping American companies strengthen their global competitiveness by investing in cutting-edge manufacturing techniques. Over the past 4 years, factories that once went dark have turned on their lights again, and the United States has seen the first sustained growth in manufacturing jobs in over two decades.

As we ensure the next technological revolution is American-made, we must also create new opportunities to sell our goods throughout the world. Alongside our partners in the Asia-Pacific, we are working to complete negotiation of the Trans-Pacific Partnership, which will lower barriers to trade, create jobs in America and across the Pacific, and open up markets to our exports in the world's fastest-growing region. And to grow prosperity on both sides of the Atlantic, we launched negotiations with the European Union on a Transatlantic Trade and Investment Partnership.

America's economic strength is a source of strength in the world. As our global economy evolves, as countries forge ever-stronger links, the United States must not stand on the sidelines. If we do not shirk from this challenge, if we continue to embrace the grit and innovative spirit that has always defined our Nation, I am confident America's best days lie ahead.

NOW, THEREFORE, I, BARACK OBAMA, President of the United States of America, by virtue of the authority vested in me by the Constitution and the laws of the United States, do hereby proclaim May 18 through May 24, 2014, as World Trade Week. I encourage all Americans to observe this week with events, trade shows, and educational programs that celebrate and inform Americans about the benefits of trade to our Nation and the global economy.

IN WITNESS WHEREOF, I have hereunto set my hand this sixteenth day of May, in the year of our Lord two thousand fourteen, and of the Independence of the United States of America the two hundred and thirty-eighth.

[FR Doc. 2014-11933

Filed 5-20-14; 11:15 am]

Billing code 3295-F4